DEPARTMENT OF THE INTERIOR

National Park Service

[NPS-WASO-NAGPRA-NPS0039329; PPWOCRADN0-PCU00RP14.R50000]

Notice of Intended Disposition: U.S. Department of Agriculture, Forest Service, Cibola National Forest and National Grasslands, Albuquerque, NM

AGENCY: National Park Service, Interior.

ACTION: Notice.

SUMMARY: In accordance with the Native American Graves Protection and Repatriation Act (NAGPRA), the U.S. Department of Agriculture, Forest, Service, Cibola National Forest and National Grasslands (USDA-Cibola NF&NGs) intends to carry out the disposition of human remains and associated funerary objects removed from Federal or Tribal lands to the lineal descendants, Indian Tribe, or Native Hawaiian organization with priority for disposition in this notice.

DATES: Disposition of the human remains and associated funerary objects in this notice may occur on or after February 18, 2025. If no claim for disposition is received by January 20, 2026, the human remains and associated funerary objects in this notice will become unclaimed human remains and associated funerary objects.

ADDRESSES: Heidi McRoberts, US Department of Agriculture, Cibola NF&NGs, 2113 Osuna Rd NE, Albuquerque, NM 87113, telephone (505) 346-3804, email heidi.mcroberts@usda.gov.

SUPPLEMENTARY INFORMATION: This notice is published as part of the National Park Service's administrative responsibilities under NAGPRA. The determinations in this notice are the sole responsibility of the USDA-Cibola NF&NGs, and additional information on the human remains and associated funerary objects in this notice, including the results of consultation, can be found in the related records. The National Park Service is not responsible for the identifications in this notice.

Abstract of Information Available

Based on the information available, human remains representing, at least, eight individuals have been reasonably identified. The 24 associated funerary objects are pottery sherds, shell beads, turquoise pendants, and a bone tool. In 1991, 1992, and 1993, at least eight ancestors and their associated funerary objects were removed from site AR 03-03-04-00013/LA 2091, also known as Pueblo de la Mesa, northwest of Corona, NM on the Mountainair Ranger District of the Cibola NF&NGs, Torrance County, NM.

Determinations

The USDA-Cibola NF&NGs has determined that:

• The human remains described in this notice represent the physical remains of at least eight individuals of Native American ancestry.

• The 24 objects described in this notice are reasonably believed to have been placed intentionally with or near individual human remains at the time of death or later as part of the death rite or ceremony.

• The Pueblo of Isleta, New Mexico and the Ysleta del Sur Pueblo have priority for disposition of the human remains and associated funerary objects described in this notice.

Claims for Disposition

Written claims for disposition of the human remains and associated funerary objects in this notice must be sent to the appropriate official identified in this notice under ADDRESSES. If no claim for disposition is received by January 20, 2026, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary objects in this notice may occur on or after February 18, 2025. If competing claims for disposition are received, the USDA-Cibola NF&NGs must determine the most appropriate claimant prior to disposition. Requests for joint disposition of the human remains and associated funerary objects are considered a single request and not competing requests. The USDA-Cibola NF&NGs is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: January 6, 2025.
Melanie O'Brien,
Manager, National NAGPRA Program.

[FR Doc. 2025-01183 Filed 1-16-25; 8:45 am]

BILLING CODE 4312-52-P